DEPARTMENT OF THE INTERIOR

Bureau of Land Management

(NV-056-5853-ES; N-80113-01; 7-08807)

Notice of Realty Action: Lease/Conveyance for Recreation and Public Purposes in Clark County, NV

AGENCY: Bureau of Land Management, Interior.

ACTION: Notice of Realty Action.

SUMMARY: Recreation and Public Purposes (R&PP) Act request for lease and subsequent conveyance of approximately 41.48 acres of public land in Clark County, Nevada. The City of North Las Vegas proposes to use the land for a public park and a police substation.

DATES: Interested parties may submit written comments regarding the proposed lease/conveyance of the lands until November 30, 2007.

ADDRESSES: Mail written comments to BLM Field Manager, Las Vegas Field Office, 4701 N. Torrey Pines Drive, Las Vegas, NV 89130-2301.

FOR FURTHER INFORMATION CONTACT: Frederick Marcell, (702) 515-5164.

SUPPLEMENTARY INFORMATION: The following described public lands in North Las Vegas, Clark County, Nevada have been examined and found suitable for lease and subsequent conveyance under the provision of the R&PP Act, as amended (43 U.S.C. 869 et seq.). The City of North Las Vegas proposes to use 41.48 acres of land for a public park and a police substation. The park amenities will include indoor/outdoor swimming pools, multi-generational center, gymnasiums, dance/aerobics rooms, dog park, parking areas, baseball fields, basketball court, playground areas, walking trails, and barbeque areas. The park and police substation facility will serve citizens in the northeast sector of North Las Vegas where rapid growth has occurred. The parcel of land is located north of Centennial Parkway and south of Rome Boulevard, and is legally described as:

Mount Diablo Meridian, Nevada,

T. 19 S., R. 61 E.,

Section 24, lot 12.

The area described contains 41.48 acres, more or less.

The land is not required for any federal purpose. The proposed action is in conformance with the Las Vegas Resource Management Plan approved on October 5, 1998, and would be in the public interest. The Plan of Development has been reviewed and it has been determined the proposed action is in conformance with the land use plan decision, LD-1, established in accordance with section 202 of the Federal Land Policy and Management Act, as amended (43 U.S.C. 1712). The lease/conveyance, when issued, will be subject to the provisions of the R&PP Act and applicable regulations of the Secretary of the Interior, and will contain the following reservations to the United States:

1. A right-of-way thereon for ditches or canals constructed by the authority of the United States pursuant to the Act of August 30, 1890 (43 U.S.C. 945).

2. All minerals shall be reserved to the United States, together with the right to prospect for, mine, and remove the minerals under applicable laws and such regulations as the Secretary of the Interior may prescribe, including all necessary access and exit rights.

The lease/conveyance for N-80113-01 will be subject to:

1. Valid existing rights;

2. A right-of-way for underground distribution line purposes granted to Nevada Power Company, its successors or assigns, by right-of-way N-80612, pursuant to the Act of October 21, 1976, 090 Stat. 2776, 43 U.S.C. 1761;

3. A right-of-way for underground distribution line purposes granted to Nevada Power Company, its successors or assigns, by right-of-way N-81066, pursuant to the Act of October 21, 1976, 090 Stat. 2776, 43 U.S.C. 1761;

4. A right-of-way for temporary use purposes granted to Nevada Power Company, its successors or assigns, by right-of-way N-81066-01, pursuant to the Act of October 21, 1976, 090 Stat. 2778, 43 U.S.C. 1764; and expires December 30, 2007;

5. A right-of-way for telephone line purposes granted to Central Telephone Company, its successors or assigns, by right-of-way N-81442, pursuant to the Act of October 21, 1976, 090 Stat. 2776, 43 U.S.C. 1761;

6. A right-of-way for natural gas pipeline purposes granted to Southwest Gas Corporation, its successors or assigns, by right-of-way N-82820, pursuant to the Act of February 25, 1920, 041 Stat. 0437, 30 U.S.C. 185 Sec. 28.

Upon publication of this notice in the Federal Register, the public lands described above will be segregated from all other forms of appropriation under the public land laws, including the general mining laws, leasing under the mineral leasing laws, and disposals under the mineral material disposal laws. Detailed information concerning this action is available for review at the Bureau of Land Management, Las Vegas Field Office at the address listed above.

Interested parties may submit comments regarding the specific use proposed in the application and Plan of Development, whether the BLM followed proper administrative procedures in reaching the decision to lease/convey under the R&PP Act, or any other factor not directly related to the suitability of the land for a public park site and police substation. Any adverse comments will be reviewed by the BLM Nevada State Director who may sustain, vacate, or modify this realty action. In the absence of any adverse comments, this realty action will become the final determination of the Department of the Interior.

Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager BLM Las Vegas Field Office will be considered properly filed. Electronic mail, facsimile, or telephone comments will not be considered properly filed. Documents related to this action are on file at the BLM Las Vegas Field Office at the address above and may be reviewed by the public at their request.

In the absence of any adverse comments, the decision will become effective on December 17, 2007. The lands will not be available for lease/conveyance until after the decision becomes effective.

(Authority: 43 CFR 2741.5)

Dated: October 3, 2007.
Mark R. Chatterton,
Assistant Field Manager, Division of Non-Renewable Resources.

[FR Doc. 07-5076 Filed 10-15-07; 8:45 am]

BILLING CODE 4310-HC-P